DEPARTMENT OF COMMERCE

National Oceanic and Atmospheric Administration

15 CFR Part 902

50 CFR Part 300

[Docket No. 140131091-4091-01]

RIN 0648-BD95

Identification and Certification of Nations; Notification of Effective Date of Information Collection Requirements

AGENCY: National Marine Fisheries Service (NMFS), National Oceanic and Atmospheric Administration (NOAA), Commerce.

ACTION: Final rule; notification of effective date.

SUMMARY: This rule provides notice of the effective date of the collection-of-information requirements first published in the Federal Register on January 12, 2011. The collection-of-information requirements pertained to documentation for imports of fishery products from nations that are negatively certified for illegal fishing or bycatch of protected resources. The Shark Conservation Act, established additional criteria for certifying nations, and the import documentation requirements were subsequently revised by a final rule published on January 16, 2013. The Office of Management and Budget (OMB) approved the revised collection-of-information requirements upon publication of that final rule.

DATES: The amendments to 15 CFR 902.1 in this final rule are effective June 25, 2014. The revised information collection requirements contained in 50 CFR 300.206(b)(2), 300.207, and 300.208 were approved by OMB on January 16, 2013 (78 FR 3345, 3346), and are effective June 25, 2014.

FOR FURTHER INFORMATION CONTACT: Laura Cimo, Trade and Marine Stewardship Division, Office of International Affairs, NMFS, at (301) 427-8350.

SUPPLEMENTARY INFORMATION:

Background

Under the High Seas Driftnet Fishing Moratorium Protection Act (Moratorium Protection Act), as amended by the Magnuson-Stevens Reauthorization Act (Pub. L. 109-479) and the Shark Conservation Act (Pub. L. 111-348), the Secretary of Commerce is authorized to identify nations whose vessels are engaged in, or have been engaged in: Illegal, unreported and unregulated (IUU) fishing; fishing activities that have bycatch of protected living marine resources (PLMR); and fishing for sharks on the high seas without adopting a regulatory program for the conservation of sharks comparable to that of the United States. Nations identified for IUU fishing, PLMR bycatch, or unsustainable shark fishing that do not take corrective action and do not subsequently receive a positive certification from the Secretary of Commerce may be subject to measures imposed by the Secretary of the Treasury under the High Seas Driftnet Fisheries Enforcement Act (16 U.S.C. 1826a). Such measures include the denial of port privileges for fishing vessels of those nations, and, as directed by the President, may include a prohibition on the importation into the United States of certain fish and fish products caught by the vessels engaged in the relevant activity for which the nations were identified, or other measures.

NMFS published a final rule to specify the procedures for identification and certification of nations under the Highs Seas Driftnet Moratorium Protection Act on January 12, 2011 (76 FR 2011). That final rule contained collection-of-information requirements specified in §§ 300.205(b)(2), 300.206(c), and 300.207(c). These regulations required documentation of admissibility for fishery products exported to the United States from nations that were not positively certified subsequent to identification by the United States for having vessels engaged in illegal, unreported and unregulated (IUU) fishing and/or bycatch of protected living marine resources. These collection-of-information requirements were not made effective in that final rule, pending approval of these requirements by OMB.

In a subsequent rulemaking, published on January 16, 2013 (78 FR 3338), § 300.205 was redesignated as § 300.206; § 300.206 was redesignated as § 300.207, § 300.207 was redesignated as § 300.208 and § 300.209 was added. The redesignated sections contained the original documentation requirements for exports of fishery products to the United States and the new section contained documentation requirements for exports of fishery products to the United States from nations that were not positively certified subsequent to identification by the United States for having vessels engaged in fishing for sharks on the high seas in a manner not comparable in effectiveness to the regulatory program of the United States. These revised collection-of-information requirements contained in §§ 300.206(b)(2), 300.207(c), 300.208(c), and 300.209(c) were approved by OMB on January 16, 2013 (78 FR 3345, 3346).

This final rule notifies the public that the collection-of-information requirements contained in §§ 300.206, 300.207, 300.208, and 300.209 have been approved by OMB and are effective. In addition, this final rule will update the table on NOAA information collections approved by OMB that appears under 15 CFR part 902.

Classification

This final rule contains a collection-of-information requirement subject to the Paperwork Reduction Act (PRA). The collection of this information has been approved by the Office of Management and Budget under OMB Control Number 0648-0651. The information collection consists of documentation requirements for exports of fishery products to the United States from nations that were not positively certified subsequent to identification by the United States under the procedures of the High Seas Driftnet Moratorium Protection Act (50 CFR part 300, subpart N).

Notwithstanding any other provision of the law, no person is required to respond to, and no person shall be subject to penalty for failure to comply with, a collection of information subject to the requirements of the PRA, unless that collection of information displays a currently valid OMB control number.

Pursuant to 5 U.S.C. 553(b)(B), the Assistant Administrator for Fisheries finds that there is good cause to waive prior notice and an opportunity for public comment on this action, as notice and comment would be unnecessary. Notice and comment are unnecessary for this current action because an opportunity for public comment was previously provided during the rulemaking to establish the collection-of-information requirement (78 FR 3338) and this current action makes only minor, non-substantive changes to the table on NOAA information collections approved by OMB that appears under 15 CFR part 902. No aspect of this required action is controversial. NMFS therefore determines that APA requirements for public notice and comment are unnecessary for this action and determines that this rule is not subject to the 30-day delay in effectiveness requirement at 5 U.S.C. 553(d).

List of Subjects in 15 CFR Part 902

Reporting and recordkeeping requirements.

Dated: June 19, 2014.
Samuel D. Rauch III,
Deputy Assistant Administrator for Regulatory Programs, National Marine Fisheries Service.

For reasons stated in the preamble, 15 CFR part 902 is amended as follows:

15 CFR Chapter IX

PART 902—NOAA INFORMATION COLLECTION REQUIREMENTS UNDER THE PAPERWORK REDUCTION ACT: OMB CONTROL NUMBERS

1. The authority citation for part 902 continues to read as follows:

Authority: 44 U.S.C. 350 et seq.

2. In § 902.1, the table in paragraph (b) under 50 CFR is amended by adding new entries in numerical order for §§ 300.206(b)(2), 300.207(c), 300.208(c) and 300.209(c) to read as follows:

§ 902.1 OMB control numbers assigned pursuant to the Paperwork Reduction Act.

* * * * *

(b) * * *

CFR Part or section where the information collection requirement is located | Current OMB control number (all numbers begin with 0648-)
* * * * *
50 CFR
* * * * *
300.206(b)(2) | -0651
300.207(c) | -0651
300.208(c) | -0651
300.209(c) | -0651

* * * * *

[FR Doc. 2014-14916 Filed 6-24-14; 8:45 am]

BILLING CODE 3510-22-P